DEPARTMENT OF COMMERCE

National Institute of Standards and Technology

Public Meeting To Present Progress and Preliminary Findings of the NIST Federal Building and Fire Safety Investigation of the World Trade Center Disaster

AGENCY: National Institute of Standards and Technology, Commerce.

ACTION: Notice of public meeting.

SUMMARY: The National Institute of Standards and Technology (NIST) of the United States Department of Commerce has scheduled a public meeting for February 12, 2004, to present an update on the progress and preliminary findings of the Federal Building and Fire Safety Investigation of the World Trade Center Disaster and to solicit comments from the public on:

(1) Specific technical aspects of the individual projects as reported in our December 2003 progress update and presentations to the National Construction Safety Team Advisory Committee (available on the NIST WTC Investigation Web site http://wtc.nist.gov);

(2) Information that NIST might consider in the time remaining that is within the scope of the eight projects described in the investigation plan (the plan is available at the same Web site); and

(3) Areas that NIST should consider, within the scope of its investigation, in order to make recommendations for specific improvements to building and fire practice, standards, and codes, and their timely adoption.

Individuals and representatives of organizations who would like to offer comments may request an opportunity to speak at the public meeting. The total number of speakers and organizations, and the time available for each, will be determined by the number of requests, but the time is likely to be 5 to 10 minutes each. Speakers who wish to expand upon their oral statements, those who had wished to speak but could not be accommodated on the agenda, and those who are unable to attend in person are invited to submit written statements and supporting material to the WTC Technical Information Repository by February 19, 2004. All comments received will be forwarded to the appropriate investigator for consideration.

DATES: The meeting will be held on Thursday, February 12, 2004, from 10 a.m. to 5 p.m.

ADDRESSES: The meeting will be held at the New York Marriott Financial Center Hotel, 85 West Street, New York, New York, (212) 385-4900.

FOR FURTHER INFORMATION CONTACT: Stephen Cauffman at (301) 975-6051 or by e-mail at stephen.cauffman@nist.gov. Written statements and supporting material should be submitted to the WTC Technical Information Repository, Building and Fire Research Laboratory, National Institute of Standards and Technology, MS 8610, Gaithersburg, MD 20899-8610; electronically by e-mail to wtc@nist.gov; or by fax to (301) 975-6122.

SUPPLEMENTARY INFORMATION: NIST is conducting a Federal building and fire safety investigation of the World Trade Center disaster. NIST is investigating the building construction, the materials used, and the technical conditions that combined to cause the World Trade Center disaster following the airplane impacts. The primary objectives of the NIST-led technical investigation of the WTC disaster are to:

(1) Determine why and how WTC 1 and 2 collapsed following the initial impacts of the aircraft, and why and how WTC 7 collapsed;

(2) Determine why the injuries and fatalities were so high or low depending on location, including all technical aspects of fire protection, occupant behavior, evacuation, and emergency response;

(3) Determine what procedures and practices were used in the design, construction, operation, and maintenance of WTC 1, 2, and 7; and

(4) Identify, as specifically as possible, areas in building and fire codes, standards, and practices that are still in use and warrant revision.

The investigation is part of a broader NIST response plan to the WTC disaster, which includes research and development and information dissemination and technical assistance.

To request an opportunity to speak, NIST must receive the following information via e-mail (wtc@nist.gov) or fax ((301)-975-6122) no later than 5 p.m. on February 5, 2004:

• Name and contact information (including fax, phone, and/or e-mail) of individual who would be speaking.

• Name and complete address of organization(s) that speaker represents.

• A 150- to 200-word summary of key points to be made by the speaker relating to:

• (1) Specific technical aspects of the individual projects as reported in our December 2003 progress update and presentations to the National Construction Safety Team Advisory Committee (available on the NIST WTC Investigation Web site http://wtc.nist.gov);

• (2) Information that NIST might consider in the time remaining that is within the scope of the eight projects described in the investigation plan (the plan is available at the same Web site); and

• (3) Areas that NIST should consider, within the scope of its investigation, in order to make recommendations for specific improvements to building and fire practice, standards, and codes, and their timely adoption.

Those who are selected to speak will be contacted by 12 noon on February 9, 2004, using the fax, phone, or e-mail address provided, and informed of the decision and the maximum amount of time allotted to each speaker.

Speakers will be selected based on the following criteria:

(1) Relevance of the 150- to 200-word summary on any or all of the above three topics,

(2) Order in which requests are received,

(3) Balancing interests and perspectives, and

(4) Avoidance of duplication in comments and suggestions.

Speakers who wish to expand upon their oral statements, those who wish to speak but cannot be accommodated on the agenda, and those who are unable to attend in person are invited to submit written statements and supporting material to the WTC Technical Information Repository, Building and Fire Research Laboratory, National Institute of Standards and Technology, MS 8610, Gaithersburg, MD 20899-8610; electronically by e-mail to wtc@nist.gov; or by fax to (301) 975-6122. All comments received will be forwarded to the appropriate investigator for consideration.

Statements made at the meeting and/or submitted to NIST may be recorded and transcribed and made available to the public at a later date. The meeting will be Web cast and linked to the NIST home page, http://www.nist.gov/. Details will be available on that Web site before the meeting.

Dated: January 27, 2004.
Arden L. Bement, Jr.,
Director.

[FR Doc. 04-2110 Filed 2-2-04; 8:45 am]

BILLING CODE 3510-13-P